DEPARTMENT OF COMMERCE

National Oceanic and Atmospheric Administration

[I.D. 051005C]

Marine Mammals; Files No. 369-1757-00 and 522-1785-00

AGENCY: National Marine Fisheries Service (NMFS), National Oceanic and Atmospheric Administration (NOAA), Commerce.

ACTION: Issuance of permits.

SUMMARY: Notice is hereby given that Bruce R. Mate, Ph.D., Holder/Principal Investigator, Oregon State University, Hatfield Marine Science Center, 2030 SE Marine Science Drive, Newport, OR 97365, and Randall S. Wells, Ph.D., Sarasota Dolphin Research Program, c/o Mote Marine Laboratory, 1600 Ken Thompson Parkway, Sarasota, FL 34236, have each been issued a permit to take marine mammals for scientific research.

ADDRESSES: The permit and related documents are available for review upon written request or by appointment(See SUPPLEMENTARY INFORMATION for addresses.

FOR FURTHER INFORMATION CONTACT: Ruth Johnson or Carrie Hubard, (301)713-2289 or email: ruth.johnson@noaa.gov.

SUPPLEMENTARY INFORMATION: On August 3, 2004 (69 FR 46521) and March 21, 2005 (70 FR 13481), notice was published in the Federal Register that a request for a scientific research permit to take marine mammals had been submitted by the above-named individuals. The requested permits have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit 369-1757-00 authorizes the Holder to approach and harass during tagging/biopsy sampling activities, up to 25 of the following species per stock not to exceed 50 of each species within a year: humpback whales (Megaptera novaeangliae), blue whales (Balaenoptera musculus), fin whales (Balaenoptera physalus), gray whales (Eschrichtius robustus), southern right whales (Eubalaena australis), bowhead whales (Balaena mysticetus), and sperm whales (Physeter macrocephalus) in U.S. and foreign waters of the North Atlantic (including Gulf of Mexico), North Pacific (including Hawaii), Arctic and Indian Oceans, Beaufort, Bering and Chukchi Seas, and international waters of the Mediteranean Sea annually for five years. Up to 200 of each species may be incidentally harassed annually. Some whales will be tagged twice. After tagging, whales will be approached for photo-identification, behavioral observation and assessment of possible tag effects. North Pacific right whales and North Atlantic right whales are not authorized in this permit. The permit also authorizes opportunistic tagging of up to 100 killer whales (Orcinus orca) over a five-year period not to exceed 20 in a single year. Southern resident killer whales are not authorized in this permit. Additionally, the permit allows non-invasive Level B harassment (photo-identification and behavioral observation) of other non-target non-listed marine mammal species encountered during tagging activities, and import/export of biopsy specimens and baleen from beach-cast whales. These samples may be imported/exported on a worldwide basis.

Permit 522-1785-00 authorizes the Holder to capture 120 individual bottlenose dolphins (Tursiops truncatus) and examine, sample, mark, tag and release in the shallow coastal waters of central west Florida and photo-id and biopsy sample of 500 dolphins over a five-year period. Observational studies of population structure, population dynamics, life history, social structure, genetic structure including paternity patterns, and human interactions are being conducted. In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Documents are available and may be reviewed in the following locations:

All permits: Permits, Conservation and Education Division, Office of Protected Resources, NMFS, 1315 East-West Highway, Room 13705, Silver Spring, MD 20910; phone (301)713-2289; fax (301)427-2521;

File 369-1757-00: Northwest Region, NMFS, 7600 Sand Point Way NE, BIN C15700, Bldg. 1, Seattle, WA 98115-0700; phone (206)526-6150; fax (206)526-6426;

File 369-1757-00: Alaska Region, NMFS, P.O. Box 21668, Juneau, AK 99802-1668; phone (907)586-7221; fax (907)586-7249;

File 369-1757-00: Southwest Region, NMFS, 501 West Ocean Blvd., Suite 4200, Long Beach, CA 90802-4213; phone (562)980-4001; fax (562)980-4018;

File 369-1757-00: Pacific Islands Regional Office, NMFS, 2570 Dole Street, Room 106, Honolulu, HI 96822-2396; phone (808)943-1221; fax (808)943-1240;

File 369-1757-00: Northeast Region, NMFS, One Blackburn Drive, Gloucester, MA 01930-2298; phone (508)281-9250; fax (508)281-9371; and

File 369-1757-00 and 522-1785-00: Southeast Region, NMFS, 9721 Executive Center Drive North, St. Petersburg, FL 33702-2432; phone (727)570-5301; fax (727)570-5300.

Dated: May 30, 2005.
Stephen L. Leathery,
Chief, Permits, Conservation and Education Division, Office of Protected Resources, National Marine Fisheries Service.

[FR Doc. 05-12756 Filed 6-27-05; 8:45 am]

BILLING CODE 3510-22-S